INTERNATIONAL TRADE COMMISSION

[USITC SE-07-029]

Government In the Sunshine Act Meeting Notice

Agency Holding the Meeting: United States International Trade Commission.

Time and Date: January 3, 2008 at 11 a.m.

Place: Room 101, 500 E Street, SW., Washington, DC 20436, Telephone: (202) 205-2000.

Status: Open to the public.

Matters To Be Considered:

1. Agenda for future meetings: None.

2. Minutes.

3. Ratification List.

4. Inv. Nos. 731-TA-1112 and 1113 (Final) (Glycine from Japan and Korea)—briefing and vote. (The Commission is currently scheduled to transmit its determinations and Commissioners' opinions to the Secretary of Commerce on or before January 10, 2008).

5. Outstanding action jackets: (1) Document No. GC-07-225 (Administrative matter).

In accordance with Commission policy, subject matter listed above, not disposed of at the scheduled meeting, may be carried over to the agenda of the following meeting.

By order of the Commission.
Issued: December 20, 2007.
William R. Bishop,
Hearings and Meetings Coordinator.

[FR Doc. E7-25099 Filed 12-27-07; 8:45 am]

BILLING CODE 7020-02-P